NUCLEAR REGULATORY COMMISSION

Sunshine Act; Meeting

Date: Weeks of September 8, 15, 22, 29, October 6, 13, 2003.

Place: Commissioner's Conference Room, 11555 Rockville Pike, Rockville, Maryland.

Status: Public and Closed.

Matters To Be Considered:

Week of September 8, 2003

Wednesday, September 10, 2003

1 p.m.—Meeting with Organization of Agreement States (OAS) and Conference of Radiation Control Program Directors (CRCPD) (Public Meeting) (Contact: John Zabko, 301-415-2308)

This meeting will be webcast live at the Web address— http://www.nrc.gov.

3 p.m.—Discussion of Security Issues (Closed—Ex. 1).

Thursday, September 11, 2003

1:30 p.m.—Discussion of Security Issues (Closed—Ex. 1).

Week of September 15, 2003—Tentative

There are no meetings scheduled for the Week of September 15, 2003.

Week of September 22, 2003—Tentative

Wednesday, September 24, 2003

9 a.m.—Briefing on Emergency Preparedness Program Status (Public Meeting) (Contact: Eric Weiss, 301-415-3264).

Thus meeting will be webcast live at the Web address— http://www.nrc.gov.

Thursday, September 25, 2003

9 a.m.—Meeting with Nuclear Reactor Industry on Security Force Work Hour Limitations (Public Meeting).

This meeting will be wedcast live at the Web address— http://www.nrc.gov.

9:30 a.m.—Discussion of Security Issues (Closed—Ex. 1).

Week of September 29, 2003—Tentative

Thursday, October 2, 2003

9:30 a.m.—Meeting with Advisory Committee on Reactor Safeguards (ACRS) (Public Meeting) Contact: John Larkins, 301-415-7360).

This meeting will be webcast live at the Web address— http://www.nrc.gov.

Week of October 6, 2003—Tentative

Tuesday, October 7, 2003

1:30 p.m.—Discussion of Management Issues (Closed—Ex. 2).

Week of October 13, 2003—Tentative

Wednesday, October 15, 2003

1:30 p.m.—Briefing on License Renewal Program, Power Update Activities, and High) Priority Activities (Public Meeting) (Contact: Jimi Yerokun, (301) 415-2292).

* The schedule for Commission meetings is subject to change on short notice. To verify the status of meetings call (recording)—(301) 415-1292. Contact person for more information: David louis Gamberoni (301) 415-1651.

* * * * *

The NRC Commission Meeting Schedule can be found on the Internet at: http://www.nrc.gov/what-we-do/policy-making/schedule.html.

* * * * *

This notice is distributed by mail to several hundred subscribers; if you no longer wish to receive it, or would like to be added to the distribution, please contact the Office of the Secretary, Washington, DC 20555 (301) 415-1969), In addition, distribution of this meeting notice over the Internet system is available. If you are interested in receiving this Commission meeting schedule electronically, please send an electronic message to dkw@nrc.gov.

Dated: September 4, 2003.
R. Michelle Schroll,
Information Management Specialist, Office of the Secretary.

[FR Doc. 03-23015 Filed 9-5-03; 11:47 am]

BILLING CODE 7590-01-M